DEPARTMENT OF VETERANS AFFAIRS

[OMB Control No. 2900-0276]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to determine the reasonable value of used manufactured home units proposed for financing.

DATES: Written comments and recommendations on the proposed collection of information should be received on or before August 21, 2000.

ADDRESSES: Submit written comments on the collection of information to Nancy J. Kessinger, Veterans Benefits Administration (20S52), Department of Veterans Affairs, 810 Vermont Avenue, NW., Washington, DC 20420. Please refer to “OMB Control No. 2900-0276” in any correspondence.

FOR FURTHER INFORMATION CONTACT: Nancy J. Kessinger at (202) 273-7079 or FAX (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Manufactured Home Appraisal Report, VA Form 26-8712.

OMB Control Number: 2900-0276.

Type of Review: Extension of a currently approved collection.

Abstract: VA Form 26-8712 is used by VA fee and staff appraisers to establish the reasonable value of used manufactured homes. The reasonable value is then used: (1) To establish the maximum loan amount a veteran may obtain for the purchase of a used manufactured home unit; (2) to obtain information on the condition of the unit and its compliance with VA's minimum property requirements; and (3) in the event of foreclosure, to ascertain the value of the unit for resale purposes for use in computation of claims in applicable cases.

Affected Public: Business or other for-profit, Individuals or households.

Estimated Annual Burden: 1 hour. The actual burden hour per year is 186. However, the requirements for appraisal reports are a common practice in the housing industry and 1 hour is being requested for reporting purposes.

Estimated Average Burden Per Respondent: 90 minutes.

Frequency of Response: On occasion.

Estimated Number of Respondents: 124.

Dated: June 2, 2000.
By direction of the Secretary.
Donald L. Neilson,
Director, Information Management Service.

[FR Doc. 00-15450 Filed 6-19-00; 8:45 am]

BILLING CODE 8320-01-P